ENVIRONMENTAL PROTECTION AGENCY

[ER-FRL-9011-6]

Environmental Impact Statements; Notice of Availability

Responsible Agency: Office of Federal Activities, General Information (202) 564-7146 or http://www.epa.gov/compliance/nepa/.

Weekly receipt of Environmental Impact Statements

Filed 09/30/2013 Through 10/18/2013

Pursuant to 40 CFR 1506.9.

Notice

Section 309(a) of the Clean Air Act requires that EPA make public its comments on EISs issued by other Federal agencies. EPA's comment letters on EISs are available at: http://www.epa.gov/compliance/nepa/eisdata.html.

EIS No. 20130300, Revised Draft EIS, FWS, CA, South Farallon Islands Invasive House Mouse Eradication Project, Farallon National Wildlife Refuge, Comment Period Ends: 12/09/2013, Contact: Gerry McChesney 510-792-0222 ext. 222.

EIS No. 20130301, Draft EIS, USAF, OK, KC-46A Formal Training Unit (FTU) and First Main Operating Base (MOB 1) Beddown, Comment Period Ends: 12/09/2013, Contact: Jean Reynolds 210-572-9324.

EIS No. 20130302, Draft EIS, FERC, NY, Rocaway Delivery Lateral and Northeast Connector Projects, Comment Period Ends: 12/09/2013, Contact: Kara Harris 202-502-6296.

EIS No. 20130303, Final Supplement, FTA, HI, Honolulu Rail Transit Project, Review Period Ends: 11/25/2013, Contact: Ted Matley 415-744-3133.

EIS No. 20130304, Draft Supplement, BOEM, TX, Gulf of Mexico OCS Oil and Gas Lease Sales: 2014-2016 Western Planning Area Lease Sales 238, 246, and 248, Comment Period Ends: 12/09/2013, Contact: Gary Goeke 504-736-3233.

EIS No. 20130305, Final Supplement, USFS, CA, Tehachapi Renewable Transmission Project, Review Period Ends: 11/25/2013, Contact: Lorraine Gerchas 626-574-5281.

Amended Notices

EIS No. 20130249, Draft EIS, USACE, LA, West Shore Lake Pontchartrain Hurricane and Storm Damage Risk Reduction, Comment Period Ends: 10/25/2013, Contact: William Klein 504-862-2540. Revision to FR Notice Published 08/23/2013; Extended Comment Period from 10/07/2013 to 10/24/2013.

EIS No. 20130250, Draft EIS, USACE, FL, Central Everglades Planning Project, Comment Period Ends: 11/01/2013, Contact: Gretchen Ehlinger 904-232-1682. Revision to FR Notice Published 08/30/2013; Extending Comment Period from 10/15/2013 to 11/01/2013.

EIS No. 20130255, Draft EIS, NOAA, 00, Amendment 7 to the 2006 Consolidated Atlantic Highly Migratory Species (HMS) Fishery Management Plan (FMP), Comment Period Ends: 12/10/2013, Contact: Thomas A. Warren 978-281-9260. Revision to FR Notice Published 08/30/2013; Extending Comment Period from 10/23/2013 to 12/10/2013.

EIS No. 20130260, Draft EIS, BIA, NV, Moapa Solar Energy Center, Comment Period Ends: 10/21/2013, Contact: Amy Heuslein 602-379-6750. Revision to FR Notice Published 08/30/2013; Extending Comment Period from 10/23/2013 to 12/10/2013.

EIS No. 20130264, Final EIS, FHWA, CO, Interstate 25 Improvements through Pueblo, Review Period Ends: 10/31/2013, Contact: Chris Horn 720-963-3017. Revision to FR Notice Published 09/13/2013, Extending Review Period from 10/15/13 to 10/31/2013.

EIS No. 20130266, Draft EIS, USN, GU, The Mariana Islands Training and Testing, Comment Period Ends: 12/06/2013, Contact: John Van Name 808-471-1714. Revision to FR Notice Published 09/13/2013; Extending Comment Period from 11/12/2013 to 12/06/2013.

EIS No. 20130276, Draft Supplement, USN, WA, Introduction of the P-8A Multi-Mission Aircraft into the U.S. Navy Fleet, Comment Period Ends: 12/02/2013, Contact: Cory Zahm 757-322-4347. Revision to FR Notice Published 09/20/2013; Extending Comment Period from 11/04/2013 to 12/02/2013.

EIS No. 20130285, Final EIS, FHWA, FL, St. Johns River Crossing, Review Period Ends: 11/19/2013, Contact: Cathy Kendal 850-553-2225. Revision to FR Notice Published 09/27/2013; Extending Review Period from 10/28/2013 to 11/19/2013.

EIS No. 20130286, Final EIS, FHWA, FL, US 301 (SR 200) from CR 227 to CR 233, Review Period Ends: 11/19/2013, Contact: Joseph Sullivan 850-553-2248. Revision to FR Notice Published 09/27/2013; Extending Review Period from 10/29/2013 to 11/19/2013.

Dated: October 22, 2013.
Cliff Rader,
Director, NEPA Compliance Division, Office of Federal Activities.

[FR Doc. 2013-25273 Filed 10-24-13; 8:45 am]

BILLING CODE 6560-50-P